POSTAL SERVICE

United Postal Service Board of Governors; Sunshine Act Meeting

Times and Dates: 8 a.m., Monday, January 7, 2002; 8:30 a.m., Tuesday, January 8, 2002.

Place: Washington, D.C., at U.S. Postal Service Headquarters, 475 L'Enfant Plaza, SW., in the Benjamin Franklin Room.

Status: January 7—8 a.m. (Closed); January 8—8:30 a.m. (Open).

Matters to be Considered:

Monday, January 7—8 a.m. (Closed)

1. Personnel Matters and Compensation Issues.

2. Management Compensation Strategy.

3. Financial Performance.

4. Strategic Planning.

Tuesday, January 8—8:30 a.m. (Open)

1. Minutes of the Previous Meetings, December 3-4, and December 13, 2001.

2. Remarks of the Postmaster General and CEO.

3. Consideration of Board Resolution on Capital Funding.

4. Annual Report on Government in the Sunshine Act Compliance.

5. Fiscal Year 2001 Annual Report.

Tuesday, January 8—8:30 a.m. (Open) [continued]

6. Semipostal Stamps.

7. Quarterly Report on Financial Performance.

8. Quarterly Report on Service Performance.

9. Election of Chairman and Vice Chairman of the Board of Governors.

10. Tentative Agenda for the February 4-5, 2002, meeting in Phoenix, Arizona.

CONTACT PERSON FOR MORE INFORMATION: David G. Hunter, Secretary of the Board, U.S. Postal Service, 475 L'Enfant Plaza, SW., Washington, DC 20260-1000. Telephone (202) 268-4800.

David G. Hunter,
Secretary.

[FR Doc. 01-31965 Filed 12-21-01; 1:34 pm]

BILLING CODE 7710-12-M